DEPARTMENT OF LABOR

Office of Disability Employment Policy

Office of the Assistant Secretary for Office of Disability Employment Program National Center on Leadership for Employment and Advancement of People With Disabilities

AGENCY: Office of Disability Employment Policy, Department of Labor.

Announcement Type: New Notice of Availability of Funds and Solicitation for Grant Applications (SGA) for Cooperative Agreements. The full announcement is posted on http://www.grants.gov.

Funding Opportunity Number: SGA-12-14.

Key Dates: The closing date for receipt of applications is August 31, 2012.

Funding Opportunity Description

The U.S. Department of Labor (DOL or Department), Office of Disability Employment Policy (ODEP) announces the availability of approximately $1.1 to fund one cooperative agreement to establish the National Center on Leadership for the Employment and Advancement of People with Disabilities (LEAD). The Center will seek to improve employment outcomes and promote the economic advancement of people with disabilities by focusing on five strategic goal areas.

First, the Center will stimulate and bring to scale innovative practices and solutions-oriented models focused on both sustainable systems change and improved practices at the individual level. Second, the Center will coordinate and provide state-of-the-art technical assistance, training and knowledge transfer capacity to workforce-related federal, state and local staff, grantees, subcontracting entities and external partners on evidence-based strategies and best practices. Third, the Center will translate emerging and successful solutions identified through demonstration projects and research focused on retention and return-to-work issues for individuals with disabilities, particularly mature workers. Fourth, the Center will assist ODEP in the development of policy by performing, upon request, rapid response to policy analysis and policy implementation questions. Finally, the Center will provide real-time accurate information related to disability employment and serve as a central locus and repository of information on best practices and successful employment strategies to both individual job seekers and the systems that assist them in securing, retaining, and advancing in employment.

This cooperative agreement will be funded for one year with up to four option years available, pending acceptable performance and availability of funding.

This solicitation provides background information, describes the application submission requirements, outlines the process that eligible entities must use to apply for funds covered by this solicitation, and outlines the evaluation criteria used as a basis for selecting the grantee.

The full Solicitation for Grant Applications is posted on http://www.grants.gov under U.S. Department of Labor/ODEP. Applications submitted through http://www.grants.gov or hard copy will be accepted. If you need to speak to a person concerning these grants, you may telephone Cassandra Mitchell at 202-693-4570 (not a toll-free number). If you have issues regarding access to the http://www.grants.gov Web site, you may telephone the Contact Center Phone at 1-800-518-4726.

Signed in Washington, DC, this 2nd day of August 2012.
Cassandra R. Mitchell,
Grant Officer.

[FR Doc. 2012-19370 Filed 8-7-12; 8:45 am]

BILLING CODE 4510-FK-P